DEPARTMENT OF AGRICULTURE

Agricultural Marketing Service

7 CFR Part 51

[Document Number AMS-SC-19-0036, SC-19-330]

Revision of Three U.S. Grade Standards for Carrots

AGENCY: Agricultural Marketing Service, USDA.

ACTION: Notice.

SUMMARY: The Agricultural Marketing Service (AMS) of the Department of Agriculture (USDA) proposes to revise the U.S. Standards for Grades of Topped Carrots, U.S. Standards for Grades of Bunched Carrots, and U.S. Standards for Grades of Carrots with Short Trimmed Tops. AMS is proposing to add more U.S. No. 1 grades to accommodate carrots of colors other than orange, orange red, and orange scarlet. The current U.S. No. 1 grades would remain unchanged. In addition, AMS is proposing to remove the Unclassified section and renumber sections due to the additional grades.

DATES: Comments must be submitted on or before March 30, 2020.

ADDRESSES: Interested persons are invited to submit written comments to the USDA, Specialty Crops Inspection Division, 100 Riverside Parkway, Suite 101, Fredericksburg, VA 22406; fax: (540) 361-1199; or at www.regulations.gov. Comments should reference the dates and page number of this issue of the Federal Register. Comments will be posted without change, including any personal information provided. All comments received within the comment period will become part of the public record maintained by the Agency and will be made available to the public via www.regulations.gov. Comments will be made available for public inspection at the above address during regular business hours or can be viewed at: www.regulations.gov.

FOR FURTHER INFORMATION CONTACT: Contact David G. Horner at the address above, by phone (540) 361-1128; fax (540) 361-1199; or, email Dave.Horner@usda.gov. Copies of the proposed U.S. Standards for Grades of Topped Carrots, U.S. Standards for Grades of Bunched Carrots, and U.S. Standards for Grades of Carrots with Short Trimmed Tops are available at http://www.regulations.gov. Copies of the current U.S. Standards for Grades of Topped Carrots, U.S. Standards for Grades of Bunched Carrots, and U.S. Standards for Grades of Carrots with Short Trimmed Tops are available on the Specialty Crops Inspection Division website at www.ams.usda.gov/grades-standards/vegetables.

SUPPLEMENTARY INFORMATION: Section 203(c) of the Agricultural Marketing Act of 1946 (7 U.S.C. 1621-1627) as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that no longer appear in the Code of Federal Regulations are maintained by AMS at: http://www.ams.usda.gov/grades-standards. AMS is proposing revisions to these U.S. Standards for Grades using the procedures that appear in part 36 of Title 7 of the Code of Federal Regulations (7 CFR part 36).

Background

AMS continually reviews all fruit and vegetable grade standards to ensure their usefulness to the industry, modernize language, and remove duplicative terminology. On December 22, 2008, AMS published a notice in the Federal Register (73 FR 78286) regarding revising the three U.S. grade standards for carrots to accommodate colors other than orange, orange red, and orange scarlet. The notice proposed revising the color section to allow carrots of any color characteristic of the variety to be graded using the standards. Also, the similar varietal characteristic requirement would have been amended to allow mixed colors and/or types when designated as a mixed or specialty pack. The industry as a whole opposed these revisions on the basis that non-orange carrots include heirloom carrots that may not have been bred for uniformity and may not have the same type of characteristics of orange carrots.

After gathering more feedback from the industry, AMS developed additional grades to accommodate other colors. For the Topped Carrots, two new grades are U.S. No. 1 Color and U.S. No. 1 Jumbo Color. For the Bunched and Short Trimmed Carrots, the new grade is U.S. No. 1 Color. The current grades remain unchanged. The new grades are identical to the current grades except for the color requirement (the following tables summarize the proposed revisions).

AMS spoke with several major U.S. carrot growers by telephone and emailed them a discussion paper on the proposed revisions. No one opposed the changes.

In addition, AMS is proposing to remove the Unclassified section. AMS is removing this section in all standards as they are revised, as it is no longer considered necessary. The category was never a grade and only served to show no grade was applied to the lot.

Finally, some sections would be renumbered due to the additional grades.

The following tables summarizes the proposed revisions and provides rationale for any changes.

Current | Proposed | Discussion
U.S. Topped Carrot Standards
§ 51.2360 U.S. Extra No. 1 | § 51.2360 U.S. Extra No. 1 | All remain unchanged.
§ 51.2361 U.S. No. 1 | § 51.2361 U.S. No. 1
§ 51.2362 U.S. No. 1 Jumbo | § 51.2362 U.S. No. 1 Jumbo
| § 51.2363 U.S. No. 1 Color and U.S. No. 1 Jumbo Color “U.S. No. 1 Color” or “U.S. No. 1 Jumbo Color” consists of carrots which meet the requirements of the U.S. No. 1 or U.S. No. 1 Jumbo grades except for fairly well colored. All roots must show good characteristic color, which means the root has a uniform characteristic color for the variety over practically the entire surface. Roots may be comingled with varieties of different colors, provided roots are of the same type. (See § 51.2365.) | Additional grades, U.S. No. 1 Color and U.S. No. 1 Jumbo Color, are proposed to accommodate other colors. The U.S. No. 1 Color and U.S. No. 1 Jumbo Color grades are identical to the U.S. No. 1 and U.S. No. 1 Jumbo grades, except for the color requirement. The new grades will ensure all grades are premium quality, will provide greater flexibility, and will bring the standards in line with current marketing trends.
§ 51.2363 U.S. No. 2 | § 51.2364 U.S. No. 2 | Remains the same except section number changes from 51.2363 to 51.2364. The U.S. No. 2 grade does not have any color requirements. In addition, carrots of other colors, such as maroon, tend to be specialty pack products and generally would not be sold as U.S. No. 2. Therefore, no U.S. No. 2 Color grade is proposed.
§ 51.2364 Unclassified “Unclassified” consists of carrots which have not been classified in accordance with any of the foregoing grades. The term “unclassified” is not a grade within the meaning of these standards, but is provided as a designation to show that no grade has been applied to the lot | Removed | AMS is removing this section in all standards as they are revised, as it is no longer considered necessary. The category was never a grade and only served to show no grade was applied to the lot.
§ 51.2365 Tolerances (2) U.S. No. 1 and U.S. No. 1 Jumbo grades. Ten percent for carrots in any lot which fail to meet the requirements of the grade: Provided, That not more than one-half of this amount, or 5 percent, shall be allowed for defects causing serious damage, including therein not more than 2 percent for carrots affected by soft rot | § 51.2365 Tolerances (2) U.S. No. 1, U.S. No. 1 Jumbo, U.S. No. 1 Color, and U.S. No. 1 Jumbo Color grades. Ten percent for carrots in any lot which fail to meet the requirements of the grade: Provided, That not more than one-half of this amount, or 5 percent, shall be allowed for defects causing serious damage, including therein not more than 2 percent for carrots affected by soft rot | The proposed U.S. No. 1 Color and U.S. No. 1 Jumbo Color grades have the same tolerances as the other grades in this section, which all remain unchanged.
U.S. Bunched Carrot Standards
§ 51.2455 U.S. No. 1 | § 51.2455 U.S. No. 1 | Remains unchanged.
| § 51.2456 U.S. No. 1 Color “U.S. No. 1 Color” consists of carrots which meet the requirements of U.S. No. 1 except for fairly well colored. All roots must show good characteristic color, which means the root has a uniform characteristic color for the variety over practically the entire surface. Roots may be comingled with varieties of different colors, provided roots are of the same type | An additional grade, U.S. No. 1 Color, is proposed to accommodate other colors. The U.S. No. 1 Color is identical to the U.S. No. 1 grade, except for the color requirement. The new grade will ensure all grades are premium quality, will provide greater flexibility, and will bring the standards in line with current marketing trends.
§ 51.2456 U.S. Commercial | § 51.2457 U.S. Commercial | Remains the same except section number changes from 51.2456 to 51.2457. Carrots of other colors, such as maroon, tend to be specialty pack products and generally would not be sold as U.S. Commercial, so no U.S. Commercial Color grade is proposed.
§ 51.2457 Unclassified “Unclassified” consists of carrots which have not been classified in accordance with either of the foregoing grades. The term “unclassified” is not a grade within the meaning of these standards, but is provided as a designation to show that no grade has been applied to the lot | Removed | AMS is removing this section in all standards as they are revised, as it is no longer considered necessary. The category was never a grade and only served to show no grade was applied to the lot.
U.S. Short Trimmed Carrot Standards
§ 51.2485 U.S. No. 1 | § 51.2485 U.S. No. 1 | Remains unchanged.
| § 51.2486 U.S. No. 1 Color “U.S. No. 1 Color” consists of carrots which meet the requirements of U.S. No. 1 except for fairly well colored. All roots must show good characteristic color, which means the root has a uniform characteristic color for the variety over practically the entire surface. Roots may be comingled with varieties of different colors, provided roots are of the same type | An additional grade, U.S. No. 1 Color, is proposed to accommodate other colors. The U.S. No. 1 Color is identical to the U.S. No. 1 grade, except for the color requirement. The new grade will ensure all grades are premium quality, will provide greater flexibility, and will bring the standards in line with current marketing trends.
§ 51.2486 U.S. Commercial | § 51.2487 U.S. Commercial | Remains the same except section number changes from 51.2486 to 51.2487. Carrots of other colors, such as maroon, tend to be specialty pack products and generally would not be sold as U.S. Commercial, so no U.S. Commercial Color grade is proposed.
§ 51.2487 Unclassified “Unclassified” consists of carrots which have not been classified in accordance with either of the foregoing grades. The term “unclassified” is not a grade within the meaning of these standards, but is provided as a designation to show that no grade has been applied to the lot | Removed | AMS is removing this section in all standards as they are revised, as it is no longer considered necessary. The category was never a grade and only served to show no grade was applied to the lot.

As stated, the proposed revisions will ensure all grades are premium quality, provide greater flexibility, and bring the standards in line with current marketing trends.

A 60-day comment period is provided for interested persons to submit comments on the proposed revised grade standards. Copies of the proposed revised standards are available at http://www.regulations.gov. After the 60-day comment period, AMS will move forward in accordance with 7 CFR 36.3(a)(1-3).

Authority: 7 U.S.C. 1621-1627.

Dated: January 23, 2020.
Bruce Summers,
Administrator, Agricultural Marketing Service.

[FR Doc. 2020-01457 Filed 1-27-20; 8:45 am]

BILLING CODE 3410-02-P